DEPARTMENT OF HOUSING AND URBAN DEVELOPMENT

[Docket No. FR-5477-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at (800) 927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-(800) 927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: ARMY: Ms. Veronica Rines, Department of the Army, Office of the Assistant Chief of Staff for Installation Management, DAIM-ZS, Room 8536, 2511 Jefferson Davis Hwy, Arlington, VA 22202: (571) 256-8145; COAST GUARD: Commandant, United States Coast Guard, Attn: Jennifer Stomber, 2100 Second St. SW., Stop 7901, Washington, DC 20593-0001; (202) 475-5609; COE: Mr. Scott Whiteford, Army Corps of Engineers, Real Estate, CEMP-CR, 441 G Street NW., Washington, DC 20314; (202) 761-5542; ENERGY: Mr. Mark Price, Department of Energy, Office of Engineering & Construction Management, MA-50, 1000 Independence Ave. SW., Washington, DC 20585: (202) 586-5422; GSA: Mr. Gordon Creed, Acting Deputy Assistant Commissioner, General Services Administration, Office of Property Disposal, 18th & F Streets NW., Washington, DC 20405; (202) 501-0084; NAVY: Mr. Albert Johnson, Department of the Navy, Asset Management Division, Naval Facilities Engineering Command, Washington Navy Yard, 1330 Patterson Ave. SW., Suite 1000, Washington, DC 20374; (202) 685-9305 (These are not toll-free numbers).

Dated: December 1, 2011.
Mark R. Johnston,
Deputy Assistant Secretary for Special Needs.

Title V, Federal Surplus Property Program Federal Register Report for 12/09/2011

Suitable/Available Properties

Buildings

Georgia

4 Bldgs.

Hunter Army Airfield

Savannah GA 31409

Landholding Agency: Army

Property Number: 21201140011

Status: Excess

Directions: 1228, 125, 128, 1158

Comments: off-site removal only; sq. ft. varies; current use: varies; fair to poor conditions—bldgs. need repairs; possible asbestos

5 Bldgs.

Hunter Army Airfield

Savannah GA 31409

Landholding Agency: Army

Property Number: 21201140012

Status: Excess

Directions: 1208, 1209, 1211, 1212, 1221

Comments: Off-site removal only; sq. ft. varies; current use: varies; fair conditions—bldgs. need repairs; possible asbestos

Bldg. 1201

685 Horace Emmet Wilson Blvd.

Savannah GA 31409

Landholding Agency: Army

Property Number: 21201140013

Status: Excess

Comments: off-site removal only; 8,736 sq. ft.; current use: Administrative office; fair conditions—bldg. need repairs; possible asbestos

Bldgs. 1154 and 1157

Hunter Army Airfield

Savannah GA 31409

Landholding Agency: Army

Property Number: 21201140014

Status: Excess

Comments: off-site removal only; sq. ft. varies; current use: CO HQ Bldg; fair conditions— bldgs. need repair

Bldgs. 140 and 150

Hunter Army Airfield

Savannah GA 31409

Landholding Agency: Army

Property Number: 21201140015

Status: Excess

Comments: off-site removal only; Bldg 140= 4,863 sq. ft.; Bldg. 150= 6,090 sq. ft.; poor conditions—bldgs. need repairs; current use: BDE HQ Bldg.

Kentucky

11 Bldgs.

Ft. Knox

Ft. Knox KY 40121

Landholding Agency: Army

Property Number: 21201140002

Status: Unutilized

Directions: 02422, 02423, 02424, 02425, 02956, 02960, 00173, 02197, 02200, 00097, 00098

Comments: off-site removal only; possible lead based paint, asbestos, and mold in all bldgs.; sq. ft. varies; current use: office

5 Bldgs.

Ft. Knox

Ft. Knox KY 40121

Landholding Agency: Army

Property Number: 21201140003

Status: Unutilized

Directions: 02317, 02323, 02324, 02349, 02421

Comments: off-site removal only; possible lead base paint, asbestos, and mold; sq. ft. varies; current use: office

10 Bldgs.

Ft. Knox

Ft. Knox KY 40121

Landholding Agency: Army

Property Number: 21201140016

Status: Unutilized

Directions: 120, 161, 166, 171, 101, 114, 115, 116, 117, 1196

Comments: off-site removal only; sq. ft. varies; current use: office space to storage; possible asbestos and mold

Maryland

13 Bldgs.

Naval Support Facility

Larderock MD

Landholding Agency: Navy

Property Number: 77201140004

Status: Excess

Directions: 008, 030, 111, 112, 113, 117, 121, 125, 126, 128, 129, 159, 196

Comments: off-site removal only; sq. ft. varies; current use: varies; buildings in fair condition—need repairs

New York

21 Bldgs.

Ft. Drum

Ft. Drum NY 13602

Landholding Agency: Army

Property Number: 21201140026

Status: Unutilized

Directions: 10280, 10281, 10282, 10283, 10284, 10285, 10286, 10288, 10289, 10290, 10291, 10503, 10504, 10505, 10506, 10590, 10591, 10592, 10593, 10594, 10595

Comments: off-site removal only; sq. ft. varies; current use: concrete pad

Bldg. 02713

Ft. Drum

Ft. Drum NY 13602

Landholding Agency: Army

Property Number: 21201140028

Status: Underutilized

Comments: off-site removal only; 1,029 sq. ft.; need major repairs; current use: Administrative office

2 Bldgs.

Ft. Drum

Ft. Drum NY 13602

Landholding Agency: Army

Property Number: 21201140030

Status: Underutilized

Directions: 1444 and 1445

Comments: off-site removal only; bldg. 1444 = 4,166 sq. ft.; bldg. 1445 = 7,219 sq. ft.; current use: varies; need extensive repairs to both bldgs.

South Carolina

Bldg. M7511

Ft. Jackson

Ft. Jackson SC 29207

Landholding Agency: Army

Property Number: 21201140017

Status: Unutilized

Comments: 220 sq. ft.; current use: sep/toil/shower; needs repairs; control access gates

Bldg. 3499

Ft. Jackson

Ft. Jackson SC 29207

Landholding Agency: Army

Property Number: 21201140018

Status: Underutilized

Comments: 1,871 sq. ft.; current use: office space; need repairs; control access gates

Bldg. 02464

Ft. Jackson

Ft. Jackson SC 29207

Landholding Agency: Army

Property Number: 21201140021

Status: Underutilized

Comments: 27,048 sq. ft.; current use: lodging; limitations w/Ft. Jackson controlled access points

Bldg. 02785

Ft. Jackson

Ft. Jackson SC 29207

Landholding Agency: Army

Property Number: 21201140022

Status: Unutilized

Comments: 80,130 sq. ft.; current use: UOQ military; limitations w/Ft. Jackson controlled access points

6 Bldgs.

Ft. Jackson

Ft. Jackson SC 29207

Landholding Agency: Army

Property Number: 21201140023

Status: Underutilized

Directions: 02102, 02103, 02105, 02106, 02107, 02108

Comments: sq. ft. varies; current use: classroom to trainee bks.; need repairs; limitations w/controlled access points

M7512

Ft. Jackson

Ft. Jackson SC 29207

Landholding Agency: Army

Property Number: 21201140025

Status: Underutilized

Comments: 220 sq. ft.; current use: sep/toil/shower; need repairs; control access gates

Suitable/Unavailable Properties

Building

Idaho

Moscow Federal Bldg.

220 East 5th Street

Moscow ID 83843

Landholding Agency: GSA

Property Number: 54201140003

Status: Surplus

GSA Number: 9-G-ID-573

Comments: 11,000 sq. ft.; current use: office

Unsuitable Properties

Building

Colorado

7 Bldgs.

Ft. Carson

Ft. Carson CO 80913

Landholding Agency: Army

Property Number: 21201140005

Status: Unutilized

Directions: 1382, 1383, 1384, 1385, 1386, 1387, 1389

Comments: Friable asbestos identified in Bldg. 1382

Reasons: Contamination, Within airport runway clear zone

2 Bldgs.

Ft. Carson

Ft. Carson CO 80913

Landholding Agency: Army

Property Number: 21201140006

Status: Unutilized

Directions: 1380 and 1381

Comments: Bldg. 1380 has flammable explosive materials

Reasons: Extensive deterioration, Within 2000 ft. of flammable or explosive material

Georgia

Bldg. 610

Hunter Army Airfield

Savannah GA 31409

Landholding Agency: Army

Property Number: 21201140010

Status: Excess

Reasons: Within 2000 ft. of flammable or explosive material

Illinois

4 Bldgs.

Naval Station

Great Lakes IL 60088

Landholding Agency: Navy

Property Number: 77201140005

Status: Underutilized

Directions: 712, 713, 747, 6801

Reasons: Secured Area

Naval Station

Bldg. 130H

Great Lakes IL 60088

Landholding Agency: Navy

Property Number: 77201140006

Status: Underutilized

Reasons: Secured Area

Bldg. 5103

Naval Station

Great Lakes IL 60088

Landholding Agency: Navy

Property Number: 77201140007

Status: Underutilized

Reasons: Secured Area

Bldg. 5602

Naval Station

Great Lakes IL 60088

Landholding Agency: Navy

Property Number: 77201140008

Status: Underutilized

Reasons: Secured Area

Bldg. 5615

Naval Station

Great Lakes IL 60088

Landholding Agency: Navy

Property Number: 77201140012

Status: Underutilized

Reasons: Secured Area

Minnesota

Haz Mat Storage Bldgs.

1201 Minnesota Ave

Duluth MN 55802

Landholding Agency: COE

Property Number: 31201140001

Status: Excess

Directions: OV9 and OV10

Reasons: Secured Area

New Jersey

13 Bldgs.

Trng Ctr-Storage Sheds

Cape May NJ 08204

Landholding Agency: Coast Guard

Property Number: 88201140001

Status: Excess

Directions: 1740, 1741, 1750, 1760, 1761, 1710, 1711, 1720, 1724, 1730, 1731, 1734, 1754

Reasons: Extensive deterioration

New York

Bldg. 2709

Ft. Drum

Ft. Drum NY 13602

Landholding Agency: Army

Property Number: 21201140004

Status: Underutilized

Reasons: Extensive deterioration, Within 2000 ft. of flammable or explosive material

Bldg. 1446

Ft. Drum

Ft. Drum NY 13602

Landholding Agency: Army

Property Number: 21201140027

Status: Underutilized

Reasons: Extensive deterioration

Bldg. 2466

Ft. Drum

Ft. Drum NY 13602

Landholding Agency: Army

Property Number: 21201140029

Status: Underutilized

Reasons: Extensive deterioration

Bldgs. 02710 and 02743

Ft. Drum

Ft. Drum NY 13602

Landholding Agency: Army

Property Number: 21201140031

Status: Unutilized

Reasons: Extensive deterioration, Within 2000 ft. of flammable or explosive material

North Carolina

10 Bldgs.

Ft. Bragg

Ft. Bragg NC 28310

Landholding Agency: Army

Property Number: 21201140009

Status: Unutilized

Directions: 32039, K1846, K2106, X7163, X7169, X7269, X7362, X7369, X7462, and X7665

Reasons: Secured Area, Extensive deterioration

Puerto Rico

Bldg. 2034

USARC

Army Reserve Ctr. PR 00735

Landholding Agency: Army

Property Number: 21201140007

Status: Excess

Reasons: Extensive deterioration

12 Bldgs.

Ft. Buchanan

Ft. Buchanan PR 00934

Landholding Agency: Army

Property Number: 21201140008

Status: Excess

Directions: 13, 15, 30, 517, 556, 576, 1315, 1316, 1319, 1320, 1323, 1324

Reasons: Extensive deterioration

South Carolina

4 Bldgs.

Ft. Jackson

Ft. Jackson SC 29207

Landholding Agency: Army

Property Number: 21201140019

Status: Unutilized

Directions: J8632, F2558, 03058, 02494

Comments: Reasons for unsuitability varies among properties

Reasons: Within airport runway clear zone, Extensive deterioration, Secured Area

Bldg. 02451

Ft. Jackson

Ft. Jackson SC 29207

Landholding Agency: Army

Property Number: 21201140020

Status: Unutilized

Reasons: Secured Area, Extensive deterioration

Bldg. 02101

Ft. Jackson

Ft. Jackson SC 29207

Landholding Agency: Army

Property Number: 21201140024

Status: Underutilized

Reasons: Secured Area

Tennessee

13 Bldgs.

Y-12 Nat'l Security Complex

Oak Ridge TN 37830

Landholding Agency: Energy

Property Number: 41201140003

Status: Unutilized

Directions: 9949-56, 9949-57, 9949-58, 9722-05, 9949-43, 9949-44, 9949-45, 9999-07, 9946-50, 9949-59, 9722-06, 9949-51, 9949-48

Reasons: Secured Area

Washington

Bldgs. 73 and 894

Naval Base Kitsap

Keyport WA

Landholding Agency: Navy

Property Number: 77201140009

Status: Underutilized

Reasons: Secured Area, Within 2000 ft. of flammable or explosive material

[FR Doc. 2011-31242 Filed 12-8-11; 8:45 am]

BILLING CODE 4210-67-P